DEPARTMENT OF DEFENSE

Department of the Air Force

Notice of Intent To Prepare an Environmental Impact Statement for United States Air Force F-35a Operational Basing—Pacific

AGENCY: Department of the Air Force, DOD.

ACTION: Notice of Intent (NOI).

SUMMARY: The Air Force is issuing this notice of intent (NOI) (40 CFR 1508.22) to prepare an Environmental Impact Statement (EIS) to assess the proposed action to base two (2) F-35A squadrons (48 Primary Assigned Aircraft (PAA)) at Eielson Air Force Base (AFB), Alaska. The proposed action will also include the use of related airspace and ranges, particularly the Joint Pacific Alaska Range Complex (JPARC). The F-35A is the conventional take-off and landing version of the Joint Strike Fighter (JSF). It is a multiple-role fighter with an emphasis on air-to-ground missions.

A No-Action Alternative will be included in the EIS, whereby no F-35A squadrons would be based at Eielson AFB. The analysis of the no-action alternative will provide a benchmark to enable Air Force decision-makers to compare the magnitude of the environmental effects of the proposed action. No-action means the proposed action would not take place, and the resulting environmental effects from taking no-action will be compared with the effects of allowing the proposed activity to go forward.

Scoping: The public scoping process will be used to identify community concerns and local issues to be considered during the draft EIS development process. Federal, state, and local agencies; Alaska Native Tribes and organizations; as well as interested persons are encouraged to provide written comments of environmental concern associated with the proposed action to the Air Force. Comments should be provided by the methods and dates indicated below.

DATES: Public scoping meetings will be held in North Pole, Fairbanks, and Delta Junction, Alaska at the following dates, times, and locations:

Tuesday, March 24, 2015, 6:00 p.m. to 8:00 p.m.

North Pole Worship Center, 3340 Badger Road, North Pole.

Wednesday, March 25, 2015, 6:00 p.m. to 8:00 p.m.

Westmark Hotel and Conference Center, 813 Noble Street, Fairbanks.

Thursday, March 26, 6:00 p.m. to 8:00 p.m.

Alaskan Steakhouse & Motel, 265 Richardson Highway, Delta Junction.

Comments on the proposal can be made at the scoping meetings, by mail, or via the project Web site at: https://www.PACAF-F35Aeis.com. Written comments can be mailed to: 354 FW/PA, 354 Broadway Avenue, Suite 15A, Eielson AFB, AK 99702.

Although comments can be submitted to the Air Force at any time during the EIS process, scoping comments are requested by Friday, April 17, 2015 to ensure full consideration in the draft EIS.

FOR FURTHER INFORMATION CONTACT: For questions regarding the proposed action, scoping, and EIS development, contact the Eielson AFB Public Affairs Office, at 907-377-2116 or at 354fw.pa.publicaffairs@us.af.mil.

Henry Williams Jr.,
Acting Air Force Federal Register Liaison Officer, DAF.

[FR Doc. 2015-05014 Filed 3-4-15; 8:45 am]

BILLING CODE 5001-10-P